DEPARTMENT OF COMMERCE

National Oceanic and Atmospheric Administration

50 CFR Part 679

[Docket No. 210217-0022]

RTID 0648-XA821

Fisheries of the Exclusive Economic Zone Off Alaska; Reallocation of Pollock in the Bering Sea and Aleutian Islands

AGENCY: National Marine Fisheries Service (NMFS), National Oceanic and Atmospheric Administration (NOAA), Commerce.

ACTION: Temporary rule.

SUMMARY: NMFS is reallocating the projected unused amounts of the Community Development Quota (CDQ) pollock directed fishing allowance (DFA) from the Aleutian Islands subarea to the Bering Sea subarea. This action is necessary to provide opportunity for harvest of the 2021 total allowable catch of pollock, consistent with the goals and objectives of the Fishery Management Plan for Groundfish of the Bering Sea and Aleutian Islands Management Area (BSAI).

DATES: Effective 1200 hrs, Alaska local time (A.l.t.), March 12, 2021, until the effective date of the final 2021 and 2022 harvest specifications for BSAI groundfish, unless otherwise modified or superseded through publication of a notification in the Federal Register.

FOR FURTHER INFORMATION CONTACT: Kurt Iverson, 907-586-7210.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

In the Aleutian Islands subarea, the portion of the 2021 pollock total allowable catch (TAC) allocated to the CDQ DFA is 1,900 metric tons (mt) as established by the final 2021 and 2022 harvest specifications for groundfish in the BSAI (86 FR 11449, February 25, 2021).

As of January 19, 2021, the Administrator, Alaska Region, NMFS, (Regional Administrator) has determined that 1,900 mt of pollock CDQ DFA in the Aleutian Islands subarea will not be harvested. Therefore, in accordance with § 679.20(a)(5)(iii)(B)(4), NMFS reallocates 1,900 mt of pollock CDQ DFA from the Aleutian Islands subarea to the Bering Sea subarea. The 1,900 mt of pollock 2021 Aleutians Islands CDQ DFA is added to the 2021 Bering Sea CDQ DFA. The 2021 Bering Sea subarea pollock incidental catch allowance remains at 49,500 mt. As a result, the 2021 harvest specifications for pollock in the Aleutian Islands subarea included in the final 2021 and 2022 harvest specifications for groundfish in the BSAI (86 FR 11449, February 25, 2021) are revised as follows: 0 mt to CDQ DFA. Furthermore, pursuant to § 679.20(a)(5), Table 4 of the final 2021 and 2022 harvest specifications for groundfish in the BSAI (86 FR 11449, February 25, 2021) is revised to make 2021 pollock allocations consistent with this reallocation. This reallocation results in an adjustment to the 2021 CDQ pollock allocation established at § 679.20(a)(5).

Table 4—Final 2021 Allocations of Pollock TACS to the Directed Pollock Fisheries and to the CDQ Directed Fishing Allowances (DFA) ¹
[Amounts are in metric tons]
Area and sector | 2021 allocations | 2021 A season ¹: A season DFA | 2021 A season ¹: SCA harvest limit ² | 2021 B season ¹: B season DFA
Bering Sea subarea TAC ¹ | 1,376,900 | n/a | n/a | n/a
CDQ DFA | 139,400 | 62,730 | 39,032 | 76,670
ICA ¹ | 49,500 | n/a | n/a | n/a
Total Bering Sea non-CDQ DFA | 1,188,000 | 534,600 | 332,640 | 653,400
AFA Inshore | 594,000 | 267,300 | 166,320 | 326,700
AFA Catcher/Processors ³ | 475,200 | 213,840 | 133,056 | 261,360
Catch by CPs | 434,808 | 195,664 | n/a | 239,144
Catch by CVs ³ | 40,392 | 18,176 | n/a | 22,216
Unlisted CP Limit ⁴ | 2,376 | 1,069 | n/a | 1,307
AFA Motherships | 118,800 | 53,460 | 33,264 | 65,340
Excessive Harvesting Limit ⁵ | 207,900 | n/a | n/a | n/a
Excessive Processing Limit ⁶ | 356,400 | n/a | n/a | n/a
Aleutian Islands subarea ABC | 58,384 | n/a | n/a | n/a
Aleutian Islands subarea TAC ¹ | 19,000 | n/a | n/a | n/a
CDQ DFA |  |  | n/a |
ICA | 2,400 | 1,250 | n/a | 1,250
Aleut Corporation | 14,700 | 14,700 | n/a |
Area harvest limit ⁷ | n/a | n/a | n/a | n/a
541 | 18,515 | n/a | n/a | n/a
542 | 8,758 | n/a | n/a | n/a
543 | 2,919 | n/a | n/a | n/a
Bogoslof District ICA ⁸ | 250 | n/a | n/a | n/a
¹ Pursuant to § 679.20(a)(5)(i)(A), the Bering Sea subarea pollock TAC, after subtracting the CDQ DFA (10 percent) and the ICA (4 percent), is allocated as a DFA as follows: Inshore sector—50 percent, catcher/processor sector (CP)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual Aleutian Islands pollock TAC, after subtracting first for the CDQ DFA (10 percent) and second for the ICA (2,400 mt), is allocated to the Aleut Corporation for a pollock directed fishery. In the Aleutian Islands subarea, the A season is allocated up to 40 percent of the AI pollock ABC.
² In the Bering Sea subarea, pursuant to § 679.20(a)(5)(i)(C), no more than 28 percent of each sector's annual DFA may be taken from the SCA before noon, April 1.
³ Pursuant to § 679.20(a)(5)(i)(A)(4), 8.5 percent of the DFA allocated to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the reallocation of Aleutian Islands pollock. Since the pollock fishery opened January 20, 2021, it is important to immediately inform the industry as to the Bering Sea subarea pollock CDQ DFA. Immediate notification is necessary to allow for the orderly conduct and efficient operation of this fishery; allow the industry to plan for the fishing season and avoid potential disruption to the fishing fleet as well as processors; and provide opportunity to harvest increased seasonal pollock allocations while value is optimum. NMFS was unable to publish a notice providing time for public comment because the most recent, relevant data only became available as of February 25, 2021.

Authority: 16 U.S.C. 1801 et seq.

Dated: March 8, 2021.
Jennifer M. Wallace,
Acting Director, Office of Sustainable Fisheries, National Marine Fisheries Service.

[FR Doc. 2021-05124 Filed 3-11-21; 8:45 am]

BILLING CODE 3510-22-P